DEPARTMENT OF THE INTERIOR

Bureau of Land Management

[Docket No. CO-01-134-1220-241A]

McInnis Canyons National Conservation Area Advisory Council Meeting

AGENCY: Bureau of Land Management Interior.

ACTION: Notice of meetings.

SUMMARY: The McInnis Canyons National Conservation Area (MCNCA) Advisory Council will hold its next meeting of 2005 on September 7, 2005. The meeting will begin at 3 p.m. and will be held at the Fruita City Office Building, 325 East Aspen Avenue, Fruita, CO. An additional meeting will be held on December 7, 2005 at the Mesa County Administration Building; 544 Rood Avenue, Grand Junction, CO.

DATES: The meeting will be held on September 7, 2005.

ADDRESSES: For further information or to provide written comments, please contact the Bureau of Land Management (BLM), 2815 H Road, Grand Junction, Colorado 81506; (970) 244-3000.

SUPPLEMENTARY INFORMATION: The McInnis Canyons National Conservation Area was established on October 24, 2000 when the Colorado Canyons National Conservation Area was established on October 24, 2000 when the Colorado Canyons National Conservation Area and Black Ridge Wilderness Act of 2000 (the Act) was signed by the President. The Act required that the Advisory Council be established to provide advice in the preparation and implementation of the CCNCA Resource Management Plan. The name was congressionally changed at the end of 2004 from Colorado Canyons National Conservation Area to McInnis Canyons National Conservation Area (MCNCA).

The MCNCA Advisory Council will meet on Wednesday, September 7, 2005 at the Fruita City Office Building, 325 East Aspen Avenue, Fruita, CO. The agenda topics for this meeting are:

(1) Status of pending Advisory Council nominations.

(2) Update on Friends of McInnis Canyons NCA.

(3) Update on NCA Implementation Plan.

(4) Cooperative management of Loma Boat Launch. (Field trip to site included.)

(5) Public comment period

(6) Agenda for next meeting

Beginning September of 2005, the MCNCA Advisory Council meetings will be held quarterly on the first Wednesday of every third month. The dates for these meetings are September 7, 2005; and December 7, 2005. Meetings for 2006 will be determined at the December meeting. Topics of discussion for future meetings will include completion of an implementation/business plan, refinement of a monitoring strategy, partnerships, interpretation, adaptive management, socioeconomic, and other issues as appropriate.

All meeting will be open to the public and will include a time set aside for public comment. Interested persons may make oral statements at the meetings or submit written statements at any meeting. Per-person time limits for oral statements may be set to allow all interested persons an opportunity to speak.

Summary minutes of all Council meetings will be maintained at the Bureau of Land Management Office in Grand Junction, Colorado. They are available for public inspection and reproduction during regular business hours within thirty (30) days following the meeting.

Dated: August 5, 2005.
Paul H. Peck,
Manager, McInnis Canyons National Conservation Area.

[FR Doc. 05-16356 Filed 8-17-05; 8:45 am]

BILLING CODE 4310-JB-M